INTERNATIONAL BOUNDARY AND WATER COMMISSION, UNITED STATES AND MEXICO, UNITED STATES SECTION

Corrections Notice for Notice of Availability

AGENCY: United States Section, International Boundary and Water Commission, United States and Mexico.

ACTION: Corrections Notice for Notice of Availability.

SUMMARY: This document corrects three text errors appearing in the Notice of Availability of the Final Environmental Impact Statement for the El Paso-Las Cruces Regional Sustainable Water Project in Sierra and Doña Ana counties, New Mexico and El Paso County, Texas published in the Federal Register (65 FR 71128) on November 29, 2000.

FOR FURTHER INFORMATION CONTACT: Mr. Douglas Echlin, Environmental Protection Specialist, Environmental Management Division, USIBWC, 4171 North Mesa Street, C-310, El Paso, Texas 79902 or call 915/832-4741. E-mail: dougechlin@ibwc.state.gov.

SUPPLEMENTARY INFORMATION: Three corrections are indicated in the referenced Notice of Availability as follows:

Summary—The last sentence of the paragraph is corrected to read, “No final action can be taken on this proposal during the 30 days following the filing of this FEIS, in accordance with the Council on Environmental Quality regulations, 40 CFR 1506.10(b)(2).”

Supplementary Information—The third sentence of the last paragraph is corrected to read, “A Record of Decision will be executed on this proposal after a minimum of 30 days following the filing of the FEIS.”

Supplementary Information, last paragraph, last sentence—Correct to read, “No final action will be taken on the proposed action before 30 days following publication of the notice of availability of the EIS by EPA.”

Dated: November 30, 2000.
William A. Wilcox, Jr.,
Legal Advisor.

[FR Doc. 00-31869 Filed 12-13-00; 8:45 am]

BILLING CODE 4710-03-P